DEPARTMENT OF COMMERCE

International Trade Administration

[A-570-909]

Certain Steel Nails From the People's Republic of China: Final Results of Antidumping Duty Administrative Review, Final Determination of No Shipments and Final Partial Rescission, 2014-2015; Correction

AGENCY: Enforcement and Compliance, International Trade Administration, Department of Commerce.

ACTION: Notice; correction.

SUMMARY: The Department of Commerce (Commerce) published a notice in the Federal Register of March 20, 2017 in which Commerce announced the final results of the 2014-2015 administrative review of the antidumping duty (AD) order on certain steel nails (nails) from the People's Republic of China (China). This notice contained incorrect information regarding the companies: For which Commerce rescinded the administrative review; for which Commerce made a final no shipments determination; and that Commerce assigned to the China-wide entity.

FOR FURTHER INFORMATION CONTACT: Benito Ballesteros, AD/CVD Operations, Office V, Enforcement and Compliance, International Trade Administration, U.S. Department of Commerce, 1401 Constitution Avenue NW, Washington, DC 20230; telephone: (202) 482-7425.

SUPPLEMENTARY INFORMATION:

Correction

In the Federal Register of March 20, 2017, in FR Doc. 2017-05429, on page 14345, correct the first and second paragraph of the “Final Partial Rescission of Antidumping Duty Administrative Review” section to read:

Pursuant to 19 CFR 351.213(d)(1), Commerce will rescind an administrative review, in whole or in part, if a party who requested the review withdraws the request within 90 days of the date of publication of notice of initiation. Mid Continent Steel & Wire, Inc. (the petitioner) withdrew its request for an administrative review on: Besco Machinery Industry (Zhejiang) Co., Ltd.; Cana (Tianjin) Hardware Industrial Co., Ltd.; Certified Products International Inc.; Chiieh Yung Metal Industrial Corporation; China Staple Enterprise (Tianjin) Co., Ltd.; Huanghua Jinhai Hardware Products Co. Ltd; Huanghua Xiong Hua Hardware Product Co., Ltd.; Huanghua Yufutai Hardware Products Limited; Jining Huarong Hardware Products; Liaocheng Minghui Hardware Products Co., Ltd.; Nanjing Yuechang Hardware Co., Ltd.; PT Enterprise Inc.; Shandong Oriental Cherry Hardware Group; Shandong Oriental Cherry Hardware Import & Export Co., Ltd.; Shandong Qingyun Hongyi Hardware Products Co., Ltd.; Shanghai Yueda Fasterners Co., Ltd.; Shanxi Tianli Enterprise Co., Ltd.; Shanxi Yuci Broad Wire Products Co., Ltd.; Smart (Tianjin) Technology Development Co., Ltd.; Tianjin Hongli Qiangsheng Import and Export Co., Ltd.; Tianjin Juxiang Metal Products Co.; Tianjin Lianda Group Ltd.¹ Tianjin Zhonglian Metals Ware Co., Ltd.; and Xi'an Metals & Minerals Import & Export Co., Ltd. No other party requested a review of these companies.²

¹ We note that “Tianjin Lianda Group Co. Ltd.” is subject to this review and is part of the China-wide entity.

² The petitioner withdrew its request for: Hebei Cangzhou New Century Foreign Trade Co. Ltd; Nanjing Caiqing Hardware Co., Ltd.; Tianjin Jinghai County Hongli Industry & Business Co., Ltd.; and Tianjin Universal Machinery Import & Export Corp. However, these companies also self-requested a review. Therefore, we have not rescinded this review with respect to these four companies. The petitioner also withdrew its request for Mingguang Abundant Hardware Products Co., Ltd. However, in the Preliminary Results, we found Mingguang Abundant Hardware Products Co., Ltd. to be the same company as Mingguang Ruifeng Hardware Products Co., Ltd. because the company changed it English name. Because Mingguang Ruifeng Hardware Products Co., Ltd. self-requested a review, we have not rescinded this review with respect to the company(ies). Similarly, we find Qingdao D&L Group, Ltd. and SDC International Australia (PTY) Ltd. to be the same as Qingdao D&L Group Co., Ltd. and SDC International Aust. PTY. Ltd., respectively, which self-requested a review. Therefore, we have not rescinded this review with respect to Qingdao D&L Group, Ltd. and SDC International Aust. PTY. Ltd.

Accordingly, we are rescinding this review, in part, with respect to the companies identified above, pursuant to 19 CFR 351.213(d)(1).

In the Federal Register of March 20, 2017, in FR Doc 2017-05429, on page 14345, correct the first paragraph of the “Final Determination of No Shipments” section to read:

In the Preliminary Results, Commerce preliminarily determined that Zhejian Gem-Chun Hardware Accessory Co., Ltd. (Zhejian Gem-Chun) did not have any reviewable transactions during the POR.³ Consistent with Commerce's assessment practice in non-market economy (NME) cases, we completed the review with respect to Zhejian Gem-Chun. Based on the certifications submitted by Zhejian Gem-Chun, and our analysis of CBP information, we continue to determine that the company did not have any reviewable transactions during the POR. As noted in the “Assessment Rates” section of the Final Results, Commerce intends to issue appropriate instructions to CBP for Zhejian Gem-Chun based on the final results of this review.

³ In the Final Results, Commerce inadvertently included Besco Machinery Industry (Zhejiang) Co., Ltd., Jining Huarong Hardware Products, Nanjing Yuechang Hardware Co., Ltd., PT Enterprise Inc., and Shanxi Yuci Broad Wire Products Co., Ltd. in the no shipments category. However, the petitioner made a timely request to rescind the review on these companies. Therefore, Commerce has removed these companies from the no shipments category.

In the Federal Register of March 20, 2017, in FR Doc 2017-05429, on page 14345, after the “Final Determination of No Shipments” section, add section “China-Wide Entity” to read:

In the Preliminary Results, we found that 14 companies, Cana (Tianjin) Hardware Industrial Co., Ltd., China Staple Enterprise (Tianjin) Co., Ltd., Huanghua Jinhai Hardware Products Co. Ltd, Huanghua Xiong Hua Hardware Product Co., Ltd., Huanghua Yufutai Hardware Products Limited, Liaocheng Minghui Hardware Products Co., Ltd., Mingguang Abundant Hardware Products Co., Ltd., Qingdao D&L Group Co., Ltd., Shandong Qingyun Hongyi Hardware Products Co., Ltd., Shanghai Yueda Fasterners Co., Ltd., Shanxi Tianli Enterprise Co., Ltd., Smart (Tianjin) Technology Development Co., Ltd., Tianjin Hongli Qiangsheng Import and Export Co., Ltd., and Tianjin Lianda Group Ltd., for which a review was requested had not established eligibility for a separate rate and, thus, we considered them to be part of the China-wide entity.

However, this list was incorrect. Mingguang Abundant Hardware Products Co., Ltd., under its new name Mingguang Ruifeng Hardware Products Co., Ltd., and Qingdao D&L Group Co., Ltd., under Qingdao D&L Group Ltd., were granted separate rate status. For the remaining companies, except Tianjin Lianda Group Co., Ltd., Commerce has rescinded the review, as noted above.

For the Final Results, we find that, for two companies, Suzhou Xingya Nail Co., Ltd. and Tianjin Lianda Group Co., Ltd., we have not received any information since the issuance of the Preliminary Results that provides a basis for reconsidering this preliminary determination. Therefore, Commerce continues to find that Suzhou Xingya Nail Co., Ltd. and Tianjin Lianda Group Co., Ltd. are part of the China-wide entity.

Background

On March 20, 2017, Commerce published in the Federal Register the final results of the 2014-2015 administrative reviews of the AD order on nails from China.⁴ This notice contained incorrect information regarding the companies for which Commerce: (1) Rescinded the administrative review; (2) made a final no shipments determination; and (3) assigned the entities to the China-wide entity.

⁴ See Certain Steel Nails from the People's Republic of China: Final Results of Antidumping Duty Administrative Review, Final Determination of No Shipments and Final Partial Rescission; 2014-2015, 82 FR 14344 (March 20, 2017).

Notification to Interested Parties

This notice is issued and published in accordance with sections 751(a)(1) and 777(i) of the Tariff Act of 1930, as amended.

Dated: April 29, 2021.
Christian Marsh,
Acting Assistant Secretary for Enforcement and Compliance.

[FR Doc. 2021-09498 Filed 5-4-21; 8:45 am]

BILLING CODE 3510-DS-P